DEPARTMENT OF ENERGY

Federal Energy Regulatory Commission

Combined Notice of Filings #1

Take notice that the Commission received the following electric rate filings:

Docket Numbers: ER10-2283-001.

Applicants: Midwest Independent Transmission System Operator, Inc.

Description: Midwest Independent Transmission System Operator, Inc. submits tariff filing per 35: 09-13-11 SECA to be effective 7/28/2010.

Filed Date: 09/13/2011.

Accession Number: 20110913-5113.

Comment Date: 5 p.m. Eastern Time on Tuesday, October 04, 2011.

Docket Numbers: ER11-4186-001.

Applicants: Wolverine Power Supply Cooperative, Inc., Midwest Independent Transmission System Operator, Inc.

Description: Wolverine Power Supply Cooperative, Inc. submits tariff filing per 35.17(b): Wolverine-Monterey Amendment to be effective 1/14/2011.

Filed Date: 09/13/2011.

Accession Number: 20110913-5108.

Comment Date: 5 p.m. Eastern Time on Tuesday, October 04, 2011.

Docket Numbers: ER11-4510-000.

Applicants: Pacific Power (Previously Pacificorp, PA)

Description: PacifiCorp submits their Average System Cost filing for sale of electric power to the Bonneville Power Administration for Fiscal Year 2012-2013.

Filed Date: 09/12/2011.

Accession Number: 20110913-0201.

Comment Date: 5 p.m. Eastern Time on Monday, October 03, 2011.

Docket Numbers: ER11-4511-000.

Applicants: Avista Corporation.

Description: Avista Corp submits the Average System Cost filing for sales of electric power to the Bonneville Power Administration.

Filed Date: 09/13/2011.

Accession Number: 20110913-0202.

Comment Date: 5 p.m. Eastern Time on Tuesday, October 04, 2011.

Docket Numbers: ER11-4512-000.

Applicants: California Independent System Operator Corporation.

Description: California Independent System Operator Corporation submits tariff filing per 35.13(a)(2)(iii: 2011-09-13 LGIA with CAISO, SCE and NextEra to be effective 8/25/2011.

Filed Date: 09/13/2011.

Accession Number: 20110913-5091.

Comment Date: 5 p.m. Eastern Time on Tuesday, October 04, 2011.

Docket Numbers: ER11-4513-000.

Applicants: PowerSmith Cogeneration Project, Limited Partnership.

Description: PowerSmith Cogeneration Project, Limited Partnership submits tariff filing per 35.1: PowerSmith Cogen Baseline MBR Tariff to be effective 9/13/2011.

Filed Date: 09/13/2011.

Accession Number: 20110913-5109.

Comment Date: 5 p.m. Eastern Time on Tuesday, October 04, 2011.

Docket Numbers: ER11-4514-000.

Applicants: Midwest Independent Transmission System Operator, Inc.

Description: Midwest Independent Transmission System Operator, Inc. submits tariff filing per 35.13(a)(2)(iii: 09-13-11 ATC Blackstart to be effective 12/1/2011.

Filed Date: 09/13/2011.

Accession Number: 20110913-5110.

Comment Date: 5 p.m. Eastern Time on Tuesday, October 04, 2011.

Docket Numbers: ER11-4515-000.

Applicants: Puget Sound Energy, Inc.

Description: Puget Sound Energy, Inc. submits tariff filing per 35.12: Ferndale Pump Substation Interconnection Agreement to be effective 10/1/2011.

Filed Date: 09/13/2011.

Accession Number: 20110913-5114.

Comment Date: 5 p.m. Eastern Time on Tuesday, October 04, 2011.

Take notice that the Commission received the following electric securities filings:

Docket Numbers: ES11-43-000.

Applicants: El Paso Electric Company.

Description: Application of El Paso Electric Company for Authorization under section 204 of the Federal Power Act.

Filed Date: 09/13/2011.

Accession Number: 20110913-5148.

Comment Date: 5 p.m. Eastern Time on Tuesday, October 04, 2011.

Docket Numbers: ES11-44-000.

Applicants: Georgia Power Company.

Description: Application of Georgia Power Company.

Filed Date: 09/13/2011.

Accession Number: 20110913-5150.

Comment Date: 5 p.m. Eastern Time on Tuesday, October 04, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 14, 2011.
Nathaniel J. Davis, Sr.,
Deputy Secretary.

[FR Doc. 2011-24184 Filed 9-20-11; 8:45 am]

BILLING CODE 6717-01-P